DEPARTMENT OF TRANSPORTATION

Federal Aviation Administration

Notice of Availability of Draft Environmental Assessment and Notice of a Public Hearing for the City of Chicago's Proposed World Gateway Program and Other Capital Improvement Projects at Chicago O'Hare International Airport

AGENCY: Federal Aviation Administration, DOT.

ACTION: The Federal Aviation Administration (FAA) is issuing this notice to advise the public that a Draft Environmental Assessment (EA) has been prepared by the City of Chicago Department of Aviation for the proposed World Gateway Program at Chicago O'Hare International Airport, and that copies of the Draft EA are available for public review and comment. This Notice has been issued to provide for wide distribution of this information to the public, and to local, state, and federal agencies. Comments are being solicited by the City of Chicago on the environmental consequences of the proposed actions. In addition, FAA is advising that the City of Chicago will hold a public hearing on December 13, 2001, regarding the EA for the purpose of considering the economic, social, and environmental effects of the development and its consistency with applicable plans.

SUMMARY: The World Gateway Program would include terminal development and improvements, taxiway development, terminal access road improvements, utility system modification, cargo facility relocation, and other capital improvement projects. An environmental assessment has been prepared by the City of Chicago Department of Aviation to evaluate the proposed projects. The EA also evaluates other independent airport development projects that would occur in the same time frame as the World Gateway Program. The subsequent environment documentation will be used by the FAA to determine the appropriate level of environmental review necessary pursuant to the National Environmental Policy Act.

Public Hearing: A public hearing and informational workshop will be held on Thursday, December 13, 2001 from 4 p.m.-8 p.m. at the Foundation Blue Banquets, 2300 S. Mannheim Road, Des Plaines, Illinois 60018. The purpose of this hearing is to consider the environmental effects of the proposed World Gateway Program and afford the public the opportunity to present oral and/or written comments. A transcript of the hearing will be made. Written comments will be accepted through the close of business on Tuesday, January 15, 2002. The first half-hour of each hour of the public hearing will be allocated to pre-reserved testimony. The second half of each hour will be allocated to walk-in testimony. All individuals will have five minutes to testify. Individuals may call Ms. Carol Wilinski at 773-894-6900 to reserve a time slot to testify at the public hearing.

FOR FURTHER INFORMATION CONTACT: Ms. Carol Wilinski, Chicago O'Hare International Airport, P.O. Box 66412, Chicago, IL 60666; 773-686-3541 (voice); 773-894-6900 (facsimile); or by email: wgp_environment@ohare.com. Please submit comments prior to close of business Tuesday, January 15, 2002.

SUPPLEMENTARY INFORMATION: The proposed World Gateway Program includes the development of two new passenger terminals, Terminals 4 and 6, the redevelopment of Terminal 2, and Terminal 3 Concourse K extension. As a result of these projects, several facilities must be relocated. These relocations are referred to as Enabling Projects. The EA also evaluates other projects unrelated to the World Gateway Program but which are proposed for development during the same period of time and are referred to as Independent Utility Projects. Together, the World Gateway Program, the Enabling Projects, and the Independent Utility Projects are referred to as the Proposed Projects in the EA. The Proposed Projects include the following:

The World Gateway Program

Terminal 2 Redevelopment

Reconfiguration of terminal interior; Widening passenger corridor linking Terminals 1 and 2; Demolition and reconstruction of Concourses E and F; Installation of Federal Inspection Service (FIS) facilities; and Reconfiguration of aircraft parking apron.

Terminal 3, Concourse K Extension

Extensions of Concourse K and Relocation of Taxiway A/B; Construction of new apron.

Terminal 4 Development

Construction of Terminal 4; Installation of FIS facilities; Enlargement and reconfiguration of apron.

Terminal 5 Reconfiguration

Modified to integrate with the proposed Terminal 6.

Terminal 6 Development

Construction of Terminal 6; Reconfiguration of apron; Extension of taxiway; Development of access road for Terminals 5 and 6; Construction of Terminal 6 parking garage; Realignment of Airport Transit System (ATS) line and construction of ATS station in Terminal 6.

Enabling Projects

• Delta Cargo Facility Relocation

• Lynxs Cargo Facility Relocation

• Sky Chefs Flight Kitchen Relocation

• Heating and Refrigeration (H&R) Plant Support Facility Relocations

• Commonwealth Edison Switchyard D179 Relocation

Independent Utility Projects

• Public Parking Improvements

• Development of Consolidated Rental Car Facility/ATS Station

• Development of Rental Car Storage and Maintenance Lot

• ATS Storage and Maintenance Facility Relocation/Track Extension

• Development of Long-Term Parking ATS Station and Intermodal Connection

• Additional Fuel Tank Farm Development in Northwest Airfield

• Development of City Warehouse and Trades Building

• Eastside Collateral Development

• O'Hare Roadway Improvements

Copies of the World Gateway Program Draft EA are available at the following locations:

Arlington Heights Memorial Library, 500 N. Dunton Ave., Arlington Heights, IL 60004

Bensenville Public Library, 200 S. Church Rd., Bensenville, IL 60106

College of DuPage Library, 425 Fawell, Glen Ellyn, IL 60137

Des Plaines Public Library, 1501 Ellinwood St., Des Plaines, IL 60016

Eisenhower Public Library, 4652 N. Olcott Ave., Harwood Heights, IL 60706

Elk Grove Village Public Library, 1001 Wellington Ave., Elk Grove Village, IL 60007

Elmhurst Public Library, 211 Prospect Ave., Elmhurst, IL 60126

Franklin Park Public Library, 10311 Grand Ave., Franklin Park, IL 60131

Harold Washington Library, 400 South State St., 5th Floor, Chicago, IL 60605

Itasca Community Library, 500 W. Irving Park Rd., Itasca, IL 60143

Melrose Park Public Library, 801 Broadway St., Melrose Park, IL 60160

Mount Prospect Public Library, 10 S. Emerson St., Mount Prospect, IL 60056

Northlake Public Library, 231 N. Wolf Rd., Northlake, IL 60164

Oakton Community College Library, Des Plaines, IL 60016

Park Ridge Public Library, 20 S. Prospect Ave., Park Ridge, IL 60068

River Grove Public Library, 8638 Grand Ave., River Grove, IL 60171

Roselle Public Library, 40 S. Park St., Roselle, IL 60172

Schiller Park Public Library, 4200 Old River Rd., Schiller Park, IL 60176

Wood Dale Public Library, 520 N. Wood Dale Rd., Wood Dale, IL 60191

Issued in Des Plaines, Illinois on October 31, 2001.
Philip M. Smithmeyer,
Manager, Chicago Airports District Office, Great Lakes Region.

[FR Doc. 01-28004 Filed 11-6-01; 8:45 am]

BILLING CODE 4910-13-M